DEPARTMENT OF HEALTH AND HUMAN SERVICES

National Institutes of Health

Center for Scientific Review; Amended Notice of Meeting

Notice is hereby given of a change in the meeting of the Center for Scientific Review Special Emphasis Panel, October 22, 2013, 9:00 a.m. to October 23, 2013, 6:00 p.m., National Institutes of Health, 6701 Rockledge Drive, Bethesda, MD 20892 which was published in the Federal Register on October 1, 2013, 78 FR 60295.

The meeting will start on December 10, 2013 and end on December 11, 2013. The meeting time and location remain the same. The meeting is closed to the public.

Dated: October 25, 2013.
Carolyn A. Baum,
Program Analyst, Office of Federal Advisory Committee Policy.

[FR Doc. 2013-25680 Filed 10-29-13; 8:45 am]

BILLING CODE 4140-01-P